DEPARTMENT OF THE INTERIOR

Fish and Wildlife Service

50 CFR Part 17

[Docket No. FWS-R8-FHC-2011-0046; 94310-1337-0000-D2]

RIN 1018-AX51

Endangered and Threatened Wildlife and Plants; Termination of the Southern Sea Otter Translocation Program; Revised Draft Supplemental Environmental Impact Statement on the Translocation of Southern Sea Otters

AGENCY: Fish and Wildlife Service, Interior.

ACTION: Proposed rule; notice of availability and reopening of public comment period.

SUMMARY: We, the U.S. Fish and Wildlife Service (Service), published a proposed rule and notice of availability of a revised draft supplemental environmental impact statement on the translocation of southern sea otters (revised draft SEIS) in the Federal Register on August 26, 2011. The U.S. Environmental Protection Agency concurrently published a notice of availability of the revised draft SEIS. The 60-day comment period for our notice ended on October 24, 2011. This notice announces a 15-day reopening of the comment period.

DATES: We will consider comments on the proposed rule, associated revised draft SEIS (which includes a revised draft translocation program evaluation as Appendix C), and initial regulatory flexibility analysis (IRFA) that are received or postmarked on or before November 21, 2011.

ADDRESSES: Submitting Comments: You may submit written comments on the proposed rule, the revised draft SEIS, and the IRFA by one of the following methods:

• Electronically: Go to the Federal eRulemaking Portal: http://www.regulations.gov. In the Enter Keyword or ID box, enter FWS-R8-FHC-2011-0046, which is the docket number for this rulemaking. Then click on the Search button. On the resultant screen, you may submit a comment by clicking on “Submit a Comment.”

• By hard copy: Submit by U.S. mail or hand-delivery to: Public Comments Processing, Attn: FWS-R8-FHC-2011-0046; Division of Policy and Directives Management; U.S. Fish and Wildlife Service; 4401 N. Fairfax Drive, MS 2042-PDM; Arlington, VA 22203.

We will not accept email or faxes. We will post all information received on http://www.regulations.gov. This generally means that we will post any personal information you provide us (see the Public Comments section in our original proposed rule of August 26, 2011, for more details).

Obtaining Copies of Documents: The proposed rule, revised draft SEIS, and IFRA are available at the following places:

• Federal eRulemaking Portal: Go to http://www.regulations.gov. In the Enter Keyword or ID box, enter FWS-R8-FHC-2011-0046, which is the docket number for this rulemaking. Then click on the Search button. On the resultant screen, you may view supporting documents by clicking on the “Open Docket Folder” icon.

• Agency Web site: You can view supporting documents on our Web site at http://www.fws.gov/ventura/.

• Our office: You can make an appointment, during normal business hours, to view the documents, comments, and materials in person at the U.S. Fish and Wildlife Service, Ventura Fish and Wildlife Office, 2493 Portola Road, Suite B, Ventura, CA 93003-7726; by telephone (805) 644-1766); by facsimile (805/644-3958); or by visiting our Web site at http://www.fws.gov/ventura/.

FOR FURTHER INFORMATION CONTACT: Lilian Carswell, at the above Ventura street address, by telephone (805) 644-1766), by facsimile (805) 644-3958), or by electronic mail (Lilian_Carswell@fws.gov). Persons who use a telecommunications device for the deaf (TDD) may call the Federal Information Relay Services (FIRS) at (800) 877-8339.

SUPPLEMENTARY INFORMATION: We are responding to a request by the California Sea Urchin Commission, dated September 15, 2011, for a 45-day extension to the comment period on the proposed rule and revised draft SEIS. Court settlement deadlines prevent us from granting the full 45-day extension; however, we are reopening the comment period for 15 days. All comments must be received or postmarked on or before the date shown in DATES. Comments previously submitted on the proposed rule or revised draft SEIS need not be resubmitted and will be fully considered in preparation of the final rule. Your comments are part of the public record, and we will fully consider them in the preparation of our final determination.

Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: October 21, 2011.
Rachel Jacobson,
Acting Assistant Secretary for Fish and Wildlife and Parks.

[FR Doc. 2011-28065 Filed 11-3-11; 8:45 am]

BILLING CODE 4310-55-P